DEPARTMENT OF STATE

[Public Notice: 12374]

U.S. Advisory Commission on Public Diplomacy; Notice of Meeting

The U.S. Advisory Commission on Public Diplomacy (ACPD) will hold an in-person public meeting with online access from 12:30 p.m. until 1:45 p.m., Wednesday, May 15, 2024. A panel of experts will review and discuss the Commission's most recent Special Report, The Global Engagement Center: A Historical Overview. The meeting will be held at George Washington University's Elliot School of International Affairs, Room 602, 1957 E Street NW, Washington, DC 20052.

This meeting is open to the public, including the media and members and staff of governmental and non-governmental organizations. To attend the event in-person or virtually, please register at https://bit.ly/ACPDMtng5-15. Doors will open at 12 p.m. To request reasonable accommodation, please email ACPD Program Assistant Kristy Zamary at ZamaryKK@state.gov. Please send any request for reasonable accommodation no later than Wednesday, May 1, 2024. Requests received after that date will be considered but might not be possible to fulfill.

Since 1948, the ACPD has been charged with appraising activities intended to understand, inform, and influence foreign publics and to increase the understanding of, and support for, these same activities. The ACPD conducts research that provides honest assessments of public diplomacy efforts, and disseminates findings through reports, white papers, and other publications. It also holds public symposiums that generate informed discussions on public diplomacy issues and events. The Commission reports to the President, Secretary of State, and Congress and is supported by the Office of the Under Secretary of State for Public Diplomacy and Public Affairs.

For more information on the U.S. Advisory Commission on Public Diplomacy, please visit https://bit.ly/ACPDSite, or contact Executive Director Vivian S. Walker at WalkerVS@state.gov or Senior Advisor Jeff Ridenour at RidenourJM@state.gov.

(Authority: 22 U.S.C. 2651a, 22 U.S.C. 1469, 5 U.S.C. 1001 et seq., and 41 CFR 102-3.150.)

Jeffrey M. Ridenour,
Senior Advisor, U.S. Advisory Commission on Public Diplomacy, Department of State.

[FR Doc. 2024-07587 Filed 4-9-24; 8:45 am]

BILLING CODE 4710-45-P